Title 3—

The President

Proclamation 9423 of April 12, 2016

Establishment of the Belmont-Paul Women's Equality National Monument

By the President of the United States of America

A Proclamation

The Sewall-Belmont House (House), located at 144 Constitution Avenue, Northeast, in Washington, D.C.—a few steps from the U.S. Capitol—has been home to the National Woman's Party (NWP) since 1929. From this House, the NWP's founder Alice Paul wrote new language in 1943 for the Equal Rights Amendment, which became known as the “Alice Paul Amendment,” and led the fight for its passage in the Congress. From here, throughout the 20th century, Paul and the NWP drafted more than 600 pieces of legislation in support of equal rights and advocated tirelessly for women's political, social, and economic equality not just in the United States but also internationally.

While the House's role in women's history makes it a nationally significant resource, the building itself has an interesting past. Robert Sewall constructed the House on Jenkins Hill, known today as Capitol Hill, around 1800. Secretary of the Treasury Albert Gallatin used the House during the Jefferson Administration, and the House was the site of the only resistance to the British invasion of Washington, D.C., during the War of 1812. In retaliation, the British set fire to the House, but by 1820, Sewall had rebuilt it. The House remained in the Sewall family until 1922, when it was acquired by Vermont Senator Porter Dale.

The NWP purchased the House in 1929 to serve as its headquarters. The NWP named it the “Alva Belmont House” in honor of its former president and major benefactor who had helped purchase the NWP's previous headquarters. A prominent suffragist herself, Belmont said of the new headquarters, “may it stand for years and years to come, telling of the work that the women of the United States have accomplished; the example we have given foreign nations; and our determination that they shall be—as ourselves—free citizens, recognized as the equals of men.” What is now called the Sewall-Belmont House became the staging ground for the NWP's advocacy for an equal rights amendment and other significant domestic and international action for women's equality.

Alice Paul, the women's suffrage and equal rights leader closely associated with the Sewall-Belmont House, led the NWP from its headquarters at the House from 1929 to 1972. A Quaker and well educated, before her work in the United States, Paul had been inspired by the women's suffrage movement in Britain in the early 20th century. During her years there from 1907 to 1910, she joined with Emmeline Pankhurst, her daughters, and other suffragettes to secure the vote for British women. Paul's participation in meetings, demonstrations, and depositions to Parliament led to multiple arrests, hunger strikes, and force-feedings.

Paul brought home her focus on women's suffrage when she returned to the United States in 1910. After earning a Ph.D. in economics at the University of Pennsylvania in 1912, she devoted herself to the American suffrage movement. She feared that the movement was waning at the national level because efforts had shifted to State suffrage. Paul believed that the movement needed to concentrate on the passage of a Federal suffrage amendment to the United States Constitution.

Paul became a member of the National American Woman Suffrage Association (NAWSA) and by 1912 served as the chair of its Congressional Committee in Washington, D.C. In 1913, she and Lucy Burns created a larger organization, the Congressional Union of Woman Suffrage, which soon disagreed with NAWSA over tactics. The Congressional Union split from NAWSA in 1914 and evolved into the NWP through steps taken in 1916 and 1917.

Paul was the most prominent figure in the final phase of the battle for the Nineteenth Amendment to the United States Constitution, ratified in 1920, granting women the right to vote. As part of her strategy, she adopted the philosophy to “hold the party in power responsible” from her work on women's suffrage in Britain. The NWP withheld its support from the existing political parties until women gained the right to vote, and “punished” those parties in power that did not support suffrage. In 1913, the day before Woodrow Wilson's first inauguration, Paul organized a women's suffrage parade of more than 5,000 participants from every State in the Union. Through a series of dramatic nonviolent protests, the NWP demanded that President Wilson and the Congress address women's issues. The NWP organized “Silent Sentinels” to stand outside the White House holding banners inscribed with incendiary phrases directed toward President Wilson. The colorful, spirited suffrage marches, the suffrage songs, the violence the women faced as they were physically attacked and had their banners torn from their hands, the daily pickets and arrests at the White House, the recurring jail time, the hunger strikes which resulted in force-feedings and brutal prison conditions, the national speaking tours, and newspaper headlines all created enormous public support for suffrage.

Through most of the last century, the NWP remained a leading advocate of women's political, social, and economic equality. Following ratification of the Nineteenth Amendment, the NWP, under the leadership of Alice Paul, turned its attention towards the larger issue of complete equality of men and women under the law. Paul reorganized the NWP in 1922 to focus on eliminating all discrimination against women. In 1923, at the 75th anniversary of the Seneca Falls Convention, the first women's rights convention, Paul proposed an equal rights amendment to the Constitution, which became known as the “Lucretia Mott Amendment,” and launched the campaign to win full equality for women. In 1943, Alice Paul rewrote the amendment, which then became known as the “Alice Paul Amendment.” What we now refer to as the “Equal Rights Amendment” was introduced in every session of Congress from 1923 until it finally passed in 1972, though it still has not been ratified by the required majority: three-fourths of the States.

Throughout the 1920s and 1930s, the NWP drafted more than 600 pieces of legislation in support of equal rights for women on the State and local levels, including bills covering divorce and custody rights, jury service, property rights, ability to enter into contracts, and the retention of one's maiden name after marriage. It launched two major “Women for Congress” campaigns in 1924 and 1926 and lobbied for the appointment of women to high Federal positions. The NWP also worked for Federal and State “blanket bills” to ensure women equal rights and helped change Federal laws to equalize nationality and citizenship laws for women. The NWP fought successfully for the repeal of a statute that prohibited Federal employees from working for the Federal Government if their spouses also were Federal employees. The NWP helped eliminate many of the sex discrimination clauses in the “codes of fair competition” established under the New Deal's National Recovery Administration, and assisted in the adoption of the Fair Labor Standards Act of 1938. Paul and the NWP also played a role in getting language protecting women included in the Civil Rights Act of 1964.

Alice Paul and the NWP did not limit their fight for women's rights to domestic arenas but also became active in international feminism as early as the 1920s. Among other actions, in 1938 Paul formed the World Woman's Party, which served as the NWP's international organization. It first assisted Jewish women fleeing the Holocaust and then became the NWP's office for promoting equal rights for women around the world. The NWP helped both Puerto Rican and Cuban women in seeking the vote, and in 1945 advocated successfully for the incorporation of language on women's equality in the United Nations Charter and for the establishment of a permanent United Nations Commission on the Status of Women.

The political strategies and tactics of Alice Paul and the NWP became a blueprint for civil rights organizations and activities throughout the 20th century. In 1997, the NWP ceased to be a lobbying organization and became a non-profit, educational organization. Today, the House tells the story of a century of courageous activism by American women.

WHEREAS, section 320301 of title 54, United States Code (known as the “Antiquities Act”), authorizes the President, in the President's discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, in 1974, the Secretary of the Interior designated the Sewall-Belmont House a National Historic Landmark for its association with Alice Paul, the NWP, and the fight for equal rights, and later the same year the Congress enacted legislation creating the Sewall-Belmont House National Historic Site, an affiliated area of the National Park System;

WHEREAS, the National Park Service completed a study in November 2014, which recommended that the Sewall-Belmont House become a unit of the National Park System and operate through cooperative management between the National Park Service and the NWP;

WHEREAS, for the purpose of establishing a national monument to be administered by the National Park Service, the NWP has donated to the Federal Government fee title to the Sewall-Belmont House and the approximately 0.34 acres of land on which it is located;

WHEREAS, the National Park Service and the NWP agree that the NWP should continue to own and manage its collection, which includes an extensive library and archival and museum holdings relating to the women's movement, and the NWP has indicated its intention to enter into appropriate arrangements with the National Park Service that would further the preservation of the permanent collection at the Sewall-Belmont House and provide for cooperative interpretation and management activities with the National Park Service;

WHEREAS, it is in the public interest to preserve and protect the Sewall-Belmont House and the historic objects associated with it;

NOW, THEREFORE, I, BARACK OBAMA, President of the United States of America, by the authority vested in me by section 320301 of title 54, United States Code, hereby proclaim the objects identified above that are situated upon lands and interests in lands owned or controlled by the Federal Government to be the Belmont-Paul Women's Equality National Monument (monument) and, for the purpose of protecting those objects, reserve as a part thereof all lands and interests in lands owned or controlled by the Federal Government within the boundaries described on the accompanying map, which is attached to and forms a part of this proclamation. The reserved Federal lands and interests in lands encompass approximately 0.34 acres. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights.

The Secretary of the Interior (Secretary) shall manage the monument through the National Park Service, pursuant to applicable legal authorities, consistent with the purposes and provisions of this proclamation. The Secretary shall prepare a management plan, with full public involvement and in coordination with the NWP, within 3 years of the date of this proclamation. The management plan shall ensure that the monument fulfills the following purposes for the benefit of present and future generations: (1) to preserve and protect the objects of historic interest associated with the monument, and (2) to interpret the monument's objects, resources, and values related to the women's rights movement. The management plan shall, among other things, set forth the desired relationship of the monument to other related resources, programs, and organizations, both within and outside the National Park System.

The National Park Service is directed to use applicable authorities to seek to enter into agreements with others, and the NWP in particular, to address common interests and promote management efficiencies, including provision of visitor services, interpretation and education, establishment and care of museum collections, and preservation of historic objects.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this twelfth day of April, in the year of our Lord two thousand sixteen, and of the Independence of the United States of America the two hundred and fortieth.

Billing code 3295-F6-P

[FR Doc. 2016-08970

Filed 4-14-16; 11:15 a.m.]

Billing code 4310-10-C